DEPARTMENT OF HEALTH AND HUMAN SERVICES

Centers for Medicare & Medicaid Services

[Document Identifier: CMS-2088-17]

Agency Information Collection Activities: Submission for OMB Review; Comment Request; Correction

AGENCY: Centers for Medicare & Medicaid Services (CMS), HHS.

ACTION: Notice; correction.

SUMMARY: On December 9, 2024, CMS published a notice in the Federal Register that sought comment on a collection of information concerning CMS-2088-17 (OMB control number 0938-0037) entitled “Community Mental Health Center Cost Report.” The OMB control number identifying the aforementioned information collection request is incorrectly listed in the SUPPLEMENTARY INFORMATION section of the notice. This document corrects the error.

FOR FURTHER INFORMATION CONTACT: William N. Parham, III, (410) 786-4669.

SUPPLEMENTARY INFORMATION:

I. Background

In the December 9, 2024, issue of the Federal Register (89 FR 97619), we published a Paperwork Reduction Act notice requesting a 30-day public comment period for the information collection request identified under CMS-2088-17, OMB control number 0938-0037, and titled “Community Mental Health Center Cost Report.”

II. Explanation of Error

In the December 9, 2024 (89 FR 97619) notice, the OMB control number is incorrect. The incorrect language is located on the 15th and 16th lines at the top of the middle column on page 97620, “(OMB control number: 0938-0378)” All of the other information contained in the December 9, 2024, notice is correct and remains unchanged. The related public comment period remains in effect and ends January 8, 2024.

III. Correction of Error

In FR Doc. 2024-28857 of December 9, 2024 (89 FR 97619), page 97620, in the 15th and 16th lines of the second column, “(OMB control number: 0938-0378)”, is corrected to read as “(OMB control number: 0938-0037)”.

William N. Parham, III,
Director, Division of Information Collections and Regulatory Impacts, Office of Strategic Operations and Regulatory Affairs.

[FR Doc. 2024-29754 Filed 12-16-24; 8:45 am]

BILLING CODE 4120-01-P